DEPARTMENT OF LABOR

Employee Benefits Security Administration

[Exemption Application Nos. D-11008 through D-11012]

Withdrawal of Notice of Proposed Exemption Involving Comerica Bank and Its Affiliates (Collectively, Comerica); Located in Detroit, MI

In the Federal Register dated May 4, 2004 (69 FR 24671), the Department of Labor (the Department) published a notice of proposed exemption from the prohibited transaction restrictions of the Employee Retirement Income Security Act of 1974 and from certain taxes imposed by the Internal Revenue Code of 1986. The notice of proposed exemption, for which relief had been requested, concerned the acquisition, holding and disposition of Comerica Incorporated Stock by Index and Model-Driven Funds managed by Comerica.

By letter dated June 7, 2004, Comerica Bank informed the Department that it wished to withdraw the notice of proposed exemption.

Accordingly the notice of proposed exemption is hereby withdrawn.

Signed at Washington, DC, this 1st day of July, 2004.
Ivan L. Strasfeld,
Director of Exemption Determinations, Pension and Welfare Benefits Administration, Department of Labor.

[FR Doc. 04-15363 Filed 7-6-04; 8:45 am]

BILLING CODE 4510-29-M